ENVIRONMENTAL PROTECTION AGENCY

[ER-FRL-8593-7]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146.

An explanation of the ratings assigned to draft environmental impact statements (EISs) was published in FR dated April 17, 2009 (74 FR 17860).

Draft EISs

EIS No. 20090054, ERP No. D-AFS-K65358-CA, Stanislaus National Forest Motorized Travel Management (17305) Plan, Implementation, Stanislaus National Forest, CA.

Summary: EPA expressed environmental concerns about adverse impacts on water quality, sensitive species and habitat. Additional information is needed on seasonal closures, monitoring, and enforcement commitments. Rating EC2.

EIS No. 20090062, ERP No. D-FRC-E05104-00, Catawba-Wateree Hydroelectric Project (FERC No. 2232), Application for Hydroelectric License, Catawba and Wateree Rivers in Burke, McDowell, Caldwell, Catawba, Alexander, Iredell, Mecklenburg, Lincoln and Gaston Counties, NC and York, Lancaster, Chester, Fairfield and Kershaw Counties, SC.

Summary: EPA expressed environmental concerns impacts to aquatic species. Rating EC1.

Final EISs

EIS No. 20090110, ERP No. F-USN-C11023-NJ, Laurelwood Housing Area, Access at Naval Weapons Station Earle, Lease Agreement, Monmouth County, NJ.

Summary: No formal comment letter was sent to the preparing agency.

Dated: May 19, 2009.
Ken Mittelholtz,
Environmental Protection Specialist, Office of Federal Activities.

[FR Doc. E9-12011 Filed 5-21-09; 8:45 am]

BILLING CODE 6560-50-P